DEPARTMENT OF HEALTH AND HUMAN SERVICES

Centers for Disease Control and Prevention

Centers for Disease Control and Prevention: Meetings

Name: Regional Meetings on CDC's Directly Funded Community Based HIV Prevention Program.

Times and Dates: 9 a.m. to 5 p.m., April 14, 2003. 9 a.m. to 5 p.m., April 15, 2003. 9 a.m. to 5 p.m., April 16, 2003.

Place: Westin Chicago River North, 320 North Dearborn, Chicago, Illinois 60610, phone (312) 329-7024, fax (312) 329-7045, Internet address http://www.westinrivernorth.com.

Times and Dates: 9 a.m. to 5 p.m., April 23, 2003. 9 a.m. to 5 p.m., April 24, 2003. 9 a.m. to 5 p.m., April 25, 2003.

Place: Hyatt Fisherman's Wharf, 555 North Point Street, San Francisco, California 94133, phone (415) 563-1234, fax (415) 563-2218, Internet address http://www.fishermanswharf.hyatt.com.

Times and Dates: 9 a.m. to 5 p.m., May 5, 2003. 9 a.m. to 5 p.m., May 6, 2003. 9 a.m. to 5 p.m., May 7, 2003.

Place: Millenium Hotel, 145 West 44th Street, New York, New York 10036, phone (212) 768-4400, fax (212) 789-7698, Internet address http://www.milleniumhotels.com.

Times and Dates: 9 a.m. to 5 p.m., May 20, 2003. 9 a.m. to 5 p.m., May 21, 2003. 9 a.m. to 5 p.m., May 22, 2003.

Place: Wyndham Miami Beach Resort, 4833 Collins Avenue, Miami Beach, Florida 33140, phone (305) 532-3600, fax (305) 534-7409, Internet address http://www.wyndham.com/hotels/MIAMIB/main.wnt.

Status: Open to the public, but limited by the space available. The meeting rooms accommodate approximately 75 people. Registration is free, but required. Forms can be obtained by e-mailing cboconsultation@cdc.gov. Additional information on meeting location is to be determined. For exact location and all meeting materials please visit our Web site at: http://www.cdc.gov/hiv/cboconsultation.html.

Purpose: To bring representatives from state and local government, community based prevention programs, community planning group members and community members together to review the current Directly Funded Community Based HIV Prevention Program, capacity building needs and recommend strategies on how to address the future funding for this program.

Matters to be Discussed: Agenda items include plenary presentations, interactive small group breakout sessions, and discussion groups in which participants will learn new information and work together to provide individual recommendations on the future structure and funding for the community based program.

Contact Person for More Information: Sam Martinez, National Center for HIV, STD, and TB Prevention, Division of HIV/AIDS Prevention, 1600 Clifton Rd., NE., M/S E-58, Atlanta, GA 30333, telephone (404) 639-5219, smartinez@cdc.gov.

The Director, Management and Analysis and Services Office, has been delegated the authority to sign Federal Register Notices pertaining to announcements of meetings and other committee management activities, for both the Centers for Disease Control and Prevention and the Agency for Toxic Substances and Disease Registry.

Dated: April 3, 2003.
Alvin Hall,
Director, Management Analysis and Services Office, Centers for Disease Control and Prevention.

[FR Doc. 03-8745 Filed 4-9-03; 8:45 am]

BILLING CODE 4163-18-P